NATIONAL ARCHIVES AND RECORDS ADMINISTRATION

Office of Government Information Services

[NARA-2017-047]

Chief FOIA Officers' Council Meeting

AGENCY: Office of Government Information Services (OGIS), National Archives and Records Administration (NARA).

ACTION: Notice of Chief FOIA Officers' Council meeting.

SUMMARY: In accordance with the Freedom of Information Act (5 U.S.C. 552 (k)), OGIS and the U.S. Department of Justice's Office of Information Policy (OIP), announce the third meeting of the Chief FOIA Officers' Council.

DATES: The meeting will be Thursday, July 27, 2017, from 10:00 a.m. to 12 p.m. EDT. Please register for the meeting no later than July 25, 2017, at 5:00 p.m. EDT (registration information is below).

Location: National Archives and Records Administration (NARA), 700 Pennsylvania Avenue NW., William G. McGowan Theater, Washington, DC 20408.

FOR FURTHER INFORMATION CONTACT: Amy Bennett, by mail at National Archives and Records Administration; Office of Government Information Services; 8601 Adelphi Road—OGIS; College Park, MD 20740-6001, by telephone at (202) 741-5782, or by email at amy.bennett@nara.gov, with the subject line “Chief FOIA Officers' Council.”

SUPPLEMENTARY INFORMATION: This meeting is open to the public in accordance with the Freedom of Information Act (5 U.S.C. 552(k)). The Chief FOIA Officers' Council is co-chaired by the Directors of OIP and OGIS. One of the purposes of the Chief FOIA Officers' Council is developing recommendations to increase agency compliance and efficiency and sharing best practices and innovative approaches. During this meeting, participants will discuss customer service and improving coordination between agency FOIA Public Liaisons and OGIS in light of the FOIA Improvement Act of 2016 amendments. Additional details about the meeting are on OGIS's Web site at https://archives.gov/ogis/about-ogis/Chief-FOIA-Officers-Council and OIP's Web site at https://www.justice.gov/oip/chief-foia-officers-council.

Procedures: Due to security requirements, you must register in advance if you wish to attend the meeting. You will also go through security screening when you enter the building. Registration for the meeting will go live via Eventbrite on June 26, 2017, at 10:00 a.m. EDT. To register for the meeting, please do so at the following Eventbrite link: https://www.eventbrite.com/e/chief-foia-officers-council-meeting-tickets-34634635126.

We will also live-stream this program on the U.S. National Archives' YouTube channel, at https://www.youtube.com/user/usnationalarchives/. The webcast will include a captioning option. To request additional accommodations (e.g., a transcript), email ogis@nara.gov or call 202-741-5770.

Members of the media who wish to register, those who are unable to register online, and those who require special accommodations, should contact Amy Bennett at the phone number, mailing address, or email address listed above.

Alina M. Semo,
Director, Office of Government Information Services.

[FR Doc. 2017-12380 Filed 6-14-17; 8:45 am]

BILLING CODE 7515-01-P